DEPARTMENT OF THE INTERIOR

Office of the Secretary

[199D1114PT DS62100000 DPTA00000.000000; OMB Control Number 1093-0005]

Agency Information Collection Activities; Payments in Lieu of Taxes (PILT) Act, Statement of Federal Lands Payments

AGENCY: Office of the Secretary, Office of Budget, Interior.

ACTION: Notice of information collection; request for comment.

SUMMARY: In accordance with the Paperwork Reduction Act of 1995, we, the Office of Budget, Office of the Secretary, Department of the Interior are proposing to renew an information collection.

DATES: Interested persons are invited to submit comments on or before July 11, 2022.

ADDRESSES: Send your comments on this information collection request (ICR) by mail to the U.S. Department of the Interior, Office of the Secretary, Office of Budget, Attn: Dionna Kiernan, 1849 C Street NW, MS 4106 MIB, Washington, DC 20240 or by email to doi_pilt@ios.doi.gov. Please reference OMB Control Number 1093-0005 in the subject line of your comments.

FOR FURTHER INFORMATION CONTACT: To request additional information about this ICR, contact Dionna Kiernan by email at doi_pilt@ios.doi.gov, or by telephone at 202-513-7783. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: ”Payments in Lieu of Taxes” (PILT) are Federal payments to local governments that help offset losses in property taxes due to non-taxable Federal lands within their boundaries. The original law is Public Law 94-565, dated October 20, 1976. This law was rewritten and amended by Public Law 97-258 on September 13, 1982, and codified at Chapter 69, Title 31 of the United States Code. The law recognizes the financial impact of the inability of local governments to collect property taxes on federally owned land.

The PILT Act requires the Governor of each State to furnish the Department of the Interior with a listing of certain revenue sharing payments disbursed to local governments by the States on behalf of the Federal Government under 12 statutes described in Section 6903 of 31 U.S.C. The Department of the Interior uses the amounts reported by States to calculate PILT payments to units of general local governments. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004 (69 FR 70557). The Office of the Secretary, Office of Budget, is now planning to extend the information collection approval authority in order to enable the Department of the Interior to continue to comply with the PILT Act.

Title of Collection: Payments in Lieu of Taxes (PILT) Act, Statement of Federal Lands Payments.

OMB Control Number: 1093-0005.

Form Number: None.

Type of Review: Extension of a currently approved collection.

Respondents/Affected Public: State governments.

Total Estimated Number of Annual Respondents: 46.

Total Estimated Number of Annual Responses: 46.

Estimated Completion Time per Response: 40 Hours.

Total Estimated Number of Annual Burden Hours: 1,840 hours.

Respondent's Obligation: Required to Obtain or Retain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey M. Parrillo,
Departmental Information Collection Clearance Officer.

[FR Doc. 2022-10176 Filed 5-11-22; 8:45 am]

BILLING CODE 4334-63-P